ENVIRONMENTAL PROTECTION AGENCY

[FRL-8233-6]

EPA Science Advisory Board; Notification of a Public Teleconference of the Science Advisory Board

AGENCY: Environmental Protection Agency.

ACTION: Notice.

SUMMARY: The Environmental Protection Agency (EPA) Science Advisory Board (SAB) Staff Office announces a public teleconference of the Chartered Board to review a draft SAB report, Advisory on EPA's Assessments of Carcinogenic Effects of Organic and Inorganic Arsenic.

DATES: The SAB will hold the public teleconference on November 27, 2006. The teleconference will begin at 2 p.m. and end at 5 p.m. (Eastern Time).

ADDRESSES: Telephone conference call only.

FOR FURTHER INFORMATION CONTACT: Any member of the public wishing to obtain general information concerning this public teleconference should contact Dr. Angela Nugent, Designated Federal Officer (DFO), EPA Science Advisory Board (1400F), U.S. Environmental Protection Agency, 1200 Pennsylvania Avenue, NW., Washington, DC 20460; via telephone/voice mail: (202) 343-9981; fax: (202) 233-0643; or e-mail at: nugent.angela@epa.gov. General information concerning the EPA Science Advisory Board can be found on the EPA Web site at: http://www.epa.gov/sab.

SUPPLEMENTARY INFORMATION: Pursuant to the Federal Advisory Committee Act, Public Law 92-463, notice is hereby given that the EPA SAB will hold a public teleconference to review a draft SAB report. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: The purpose of the public teleconference is to review the SAB Arsenic Review Panel's draft report, Advisory on EPA's Assessments of Carcinogenic Effects of Organic and Inorganic Arsenic. In reviewing draft reports from its panels, the SAB considers whether: (i) The original charge questions to the SAB review panel were adequately addressed in the draft report, (ii) the draft report is clear and logical; and (iii) the conclusions drawn, or recommendations made in the draft report, are supported by the body of the report.

The draft report to be reviewed at this public teleconference focuses on several issues about the mode of carcinogenic action of various arsenic species and the implications of these issues for EPA's assessment of the cancer hazard and risks of organic and inorganic arsenic. The panel reviewed a science issue paper prepared by EPA's Office of Pesticide Programs (with an attachment prepared by EPA's Office of Research and Development) and a revised hazard and dose response assessment/characterization for inclusion in EPA's Integrated Risk Information System (IRIS) prepared by EPA's Office of Water. Additional information about the SAB Arsenic Assessment Review Panel can be found on the web at: http://www.epa.gov/sab/panels/arsenic_review_panel.htm.

Availability of Teleconference Materials: The draft agendas and other materials will be posted on the SAB Web site at: http://www.epa.gov/sab/ prior to the teleconference.

Procedures for Providing Public Input: Interested members of the public may submit relevant written or oral information for the SAB to consider during the public teleconference. Oral Statements: In general, individuals or groups requesting an oral presentation at a public SAB teleconference will be limited to three minutes per speaker, with no more than a total of one-half hour for all speakers. Interested parties should contact Dr. Angela Nugent, DFO, in writing (preferably via e-mail), by November 16, 2006, at the contact information noted above, to be placed on the public speaker list for this teleconference. Written Statements: Written statements should be received in the SAB Staff Office by November 16, 2006, so that the information may be made available to the SAB for their consideration prior to this teleconference. Written statements should be supplied to the DFO in the following formats: One hard copy with original signature, and one electronic copy via e-mail (acceptable file format: Adobe Acrobat PDF, WordPerfect, MS Word, MS PowerPoint, or Rich Text files in IBM-PC/Windows 98/2000/XP format).

Accessibility: For information on access or services for individuals with disabilities, please contact Dr. Angela Nugent at (202) 343-9981 or nugent.angela@epa.gov. To request accommodation of a disability, please contact Dr. Nugent preferably at least ten days prior to the teleconference, to give EPA as much time as possible to process your request.

Dated: October 17, 2006.
Anthony F. Maciorowski,
Associate Director for Science, EPA Science Advisory Board Staff Office.

[FR Doc. E6-17803 Filed 10-23-06; 8:45 am]

BILLING CODE 6560-50-P